CORPORATION FOR NATIONAL AND COMMUNITY SERVICE

Advisory Board Meeting

AGENCY: Corporation for National and Community Service.

ACTION: Notice of Meeting.

SUMMARY: The Corporation for National and Community Service gives notice under Public Law 92-463 (Federal Advisory Committee Act), that it will hold a meeting of the Civilian Community Corps (CCC) Advisory Board. The Board advises the Director of CCC concerning the administration of the program and assists in the development and administration of the Corps. At this meeting, the Board will discuss issues related to resource development, strategic planning, and overall program sustainability. The meeting will be open to the public.

Time and Date: Tuesday, May 1, 2001, 12:00 p.m. to 5:00 p.m.

Place: The meeting will be held at Corporation Headquarters, 1201 New York Avenue, NW., Washington, DC, 20525.

FOR FURTHER INFORMATION CONTACT: Ms. Merlene Mazyck, 1201 New York Avenue NW., 9th Floor, Washington, DC 20525. Telephone (202) 606-5000, ext. 137 (T.D.D. (202) 565-2799).

Special Needs: Upon request, meeting notices will be made available in alternative formats to accommodate visual and hearing impairments. Individuals who have a disability and who need an accommodation to attend the meeting may notify Ms. Mazyck.

Dated: April 9, 2001.
Thomas L. Bryant
Associate General Counsel.

[FR Doc. 01-9144 Filed 4-12-01; 8:45 am]

BILLING CODE 6050-$$-U